DEPARTMENT OF TRANSPORTATION

U.S. Maritime Administration

[Docket No. MARAD 2011-0141]

Availability of Finding of No Significant Impact

AGENCY: Maritime Administration, U.S. Department of Transportation.

ACTION: Notice.

SUMMARY: Notice is hereby given that the Maritime Administration, of the U.S. Department of Transportation (US DOT), has made available to interested parties the Finding of No Significant Impact (FONSI) for the United States Merchant Marine Academy Mallory Pier Replacement project. An environmental assessment (EA) and FONSI have been prepared pursuant to the National Environmental Policy Act (NEPA) (U.S.C. 4231 et seq.) in accordance with the Council on Environmental Quality (CEQ) regulations for implementing the procedural provisions of NEPA (40 CFR 1500-1508). The purpose of the EA is to evaluate the potential environmental impacts from replacement of a 600 foot section of timber pile supported pier with concrete pile supports and decking. The timber pile pier section to be replaced comprises a total area of 13,400 square feet.

FOR FURTHER INFORMATION CONTACT: Daniel E. Yuska Jr., 1200 New Jersey Ave., SE., Washington, DC 20590; phone: (202) 366-0714; or email: Daniel.yuska@dot.gov. Persons who use a telecommunications device for the deaf (TDD) may call the Federal Information Relay Service (FIRS) at 1-(800) 877-8339 to contact the above individuals during business hours. The FIRS is available twenty-four hours a day, seven days a week, to leave a message or question with the above individuals. You will receive a reply during normal business hours.

A copy of the Final EA and Finding of No Significant Impact can be obtained or viewed online at http://www.regulations.gov. The files are in a portable document format (pdf); in order to review or print the document, users need to obtain a free copy of Acrobat Reader. The Acrobat Reader can be obtained from http://www.adobe.com/prodindex/acrobat/readstep.html.

By Order of the Maritime Administrator.
Dated: October 26, 2011.
Julie P. Agarwal,
Secretary, Maritime Administration.

[FR Doc. 2011-28401 Filed 11-2-11; 8:45 am]

BILLING CODE 4910-81-P